DEPARTMENT OF THE INTERIOR

Bureau of Ocean Energy Management

[Docket No. BOEM-2012-0088]

Commercial Leasing for Wind Power on the Outer Continental Shelf (OCS) Offshore North Carolina—Call for Information and Nominations (Call); Reopening of Comment Period

AGENCY: Bureau of Ocean Energy Management (BOEM), Interior.

ACTION: Call for Information and Nominations; Reopening of Comment Period.

SUMMARY: BOEM is reopening the comment period announced in the Call for Information and Nominations for Commercial Leasing for Wind Power Offshore North Carolina (Call), published on December 13, 2012 (77 FR 7204).

DATES: BOEM must receive your nomination describing your interest in obtaining a commercial wind lease in one or more, or any portion of, the Call Areas, postmarked by March 7, 2013 for your nomination to be considered. BOEM requests comments or submissions of information to be postmarked or delivered by this same date. BOEM will consider only those nominations received that conform to this requirement.

Submission Procedures: You may submit nominations, comments, and other information by one of two methods:

1. Federal eRulemaking Portal: http://www.regulations.gov. In the entry entitled “Enter Keyword or ID,” enter BOEM-2012-0088, and then click “search.” Follow the instructions to submit comments and view supporting and related materials available for this notice.

2. U.S. Postal Service or other delivery service. Send your comments and information to the following address: Bureau of Ocean Energy Management, Office of Renewable Energy Programs, 381 Elden Street, HM 1328, Herndon, Virginia 20170.

FOR FURTHER INFORMATION CONTACT: Will Waskes, Oceanographer, BOEM, Office of Renewable Energy Programs, 381 Elden Street, HM 1328, Herndon, Virginia 20170, (703) 787-1320 or Will.Waskes@boem.gov.

SUPPLEMENTARY INFORMATION: Background: On December 13, 2012, BOEM published the Call in the Federal Register with a 45-day comment period. The Call invited nominations from potential offshore wind developers describing commercial leasing interest and requested comments and information pertaining to the Call areas.

Because of requests received from the public, we are hereby reopening the comment period until March 7, 2013. As stated in the Call, BOEM will use the nominations received in response to this Call to gauge specific interest in commercial development of OCS wind resources in the areas described, as required by 43 U.S.C. 1337(p)(3). Parties wishing to submit a nomination should submit detailed and specific information in response to the requirements described in the section of the Call entitled, “Required Nomination Information.” BOEM also invites all interested and affected parties to comment and provide information—including information on multiple uses of the area, environmental issues and data—that will be useful in the consideration of the appropriateness of all or portions of the Call areas for commercial wind energy development. Please refer to the Call published in the Federal Register on December 13, 2012, for further information. Comments already submitted in response to the Call do not need to be resubmitted.

Dated: January 29, 2013.
Walter D. Cruickshank,
Deputy Director, Bureau of Ocean Energy Management.

[FR Doc. 2013-02411 Filed 2-4-13; 8:45 am]

BILLING CODE 4310-MR-P